DEPARTMENT OF ENERGY

Federal Energy Regulatory Commission

[Docket No. PR03-13-000]

Saltville Gas Storage Company, L.L.C.; Notice of Petition for Rate Approval

April 15, 2003.

Take notice that on April 4, 2003, Saltville Gas Storage Company, L.L.C. (Saltville) filed, pursuant to section 284.123(b)(2) of the Commission's regulations and its blanket certificate, a petition for rate approval for storage services rendered pursuant to section 311(a)(2) of the Natural Gas Policy Act of 1978 (NGPA).

Saltville states that it proposes to offer a menu of firm service options, interruptible storage, and park and loan service. Saltville further states that it is an intrastate pipeline company.

Any person desiring to participate in this rate proceeding must file a motion to intervene or protest with the Federal Energy Regulatory Commission, 888 First Street, NE., Washington, DC 20426, in accordance with sections 385.214 or 385.211 of the Commission's rules and regulations. All such motions or protests must be filed with the Secretary of the Commission on or before the comment date below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “FERRIS” link. Enter the docket number excluding the last three digits in the docket number field to access the document. For assistance, call (202) 502-8222 or for TTY, (202) 502-8659. Comments, protests and interventions may be filed electronically via the Internet in lieu of paper. The Commission strongly encourages electronic filings. See 18 CFR 385.2001(1)(iii) and the instructions on the Commission's Web site under the “e-Filing” link.

Comment Date: April 30, 2003.

Magalie R. Salas,
Secretary.

[FR Doc. 03-9815 Filed 4-21-03; 8:45 am]

BILLING CODE 6717-01-P